DEPARTMENT OF ENERGY

Federal Energy Regulatory Commission

Combined Notice of Filings #1

Take notice that the Commission received the following electric rate filings:

Docket Numbers: ER19-2273-004.

Applicants: Southwest Power Pool, Inc.

Description: Compliance filing: Southwest Power Pool, Inc. Refund Report to be effective N/A.

Filed Date: 4/21/21.

Accession Number: 20210421-5000.

Comments Due: 5 p.m. ET 5/12/21.

Docket Numbers: ER21-1707-001.

Applicants: The Potomac Edison Company, PJM Interconnection, L.L.C.

Description: Tariff Amendment: Potomac submits Amendment to Pending Filing of Service Agreement No. 4452 to be effective 6/16/2021.

Filed Date: 4/20/21.

Accession Number: 20210420-5092.

Comments Due: 5 p.m. ET 5/11/21.

Docket Numbers: ER21-1719-000.

Applicants: Duke Energy Progress, LLC.

Description: Tariff Cancellation: DEP—EPCOR USA NC-Southport SA 237 Termination to be effective 6/30/2021.

Filed Date: 4/20/21.

Accession Number: 20210420-5078.

Comments Due: 5 p.m. ET 5/11/21.

Docket Numbers: ER21-1720-000.

Applicants: Entergy Arkansas, LLC.

Description: § 205(d) Rate Filing: EAL-MSS-4 Replacement Tariff to be effective 5/1/2021.

Filed Date: 4/20/21.

Accession Number: 20210420-5142.

Comments Due: 5 p.m. ET 5/11/21.

Docket Numbers: ER21-1721-000.

Applicants: Southwest Power Pool, Inc.

Description: § 205(d) Rate Filing: 3785 Tip Top Solar, SPS and OG&E Shared Network Upgrade FCA to be effective 6/20/2021.

Filed Date: 4/21/21.

Accession Number: 20210421-5014.

Comments Due: 5 p.m. ET 5/12/21.

Take notice that the Commission received the following foreign utility company status filings:

Docket Numbers: FC21-3-000.

Applicants: BLCP Power Limited.

Description: Notice of Self-Certification of Foreign Utility Company Status of BLCP Power Limited.

Filed Date: 4/20/21.

Accession Number: 20210420-5141.

Comments Due: 5 p.m. ET 5/11/21.

Docket Numbers: FC21-4-000.

Applicants: Chaiyaphum Wind Farm Company Limited.

Description: Notice of Self-Certification of Foreign Utility Company Status of Chaiyaphum Wind Farm Company Limited.

Filed Date: 4/20/21.

Accession Number: 20210420-5145.

Comments Due: 5 p.m. ET 5/11/21.

Docket Numbers: FC21-5-000.

Applicants: EGCO Cogeneration Company Limited.

Description: Notice of Self-Certification of Foreign Utility Company Status of EGCO Cogeneration Company Limited.

Filed Date: 4/20/21.

Accession Number: 20210420-5149.

Comments Due: 5 p.m. ET 5/11/21.

Docket Numbers: FC21-6-000.

Applicants: G-Power Source Company Limited.

Description: Notice of Self-Certification of Foreign Utility Company Status of G-Power Source Company Limited.

Filed Date: 4/20/21.

Accession Number: 20210420-5160.

Comments Due: 5 p.m. ET 5/11/21.

Docket Numbers: FC21-7-000.

Applicants: Gulf Power Generation Company Limited.

Description: Notice of Self-Certification of Foreign Utility Company Status of Gulf Power Generation Company Limited.

Filed Date: 4/20/21.

Accession Number: 20210420-5161.

Comments Due: 5 p.m. ET 5/11/21.

Docket Numbers: FC21-8-000.

Applicants: Gulf Yala Green Company Limited.

Description: Notice of Self-Certification of Foreign Utility Company Status of Gulf Yala Green Company Limited.

Filed Date: 4/20/21.

Accession Number: 20210420-5163.

Comments Due: 5 p.m. ET 5/11/21.

Docket Numbers: FC21-9-000.

Applicants: Nam Theun 2 Power Company Limited.

Description: Notice of Self-Certification of Foreign Utility Company Status of Nam Theun 2 Power Company Limited.

Filed Date: 4/20/21.

Accession Number: 20210420-5167.

Comments Due: 5 p.m. ET 5/11/21.

Docket Numbers: FC21-10-000.

Applicants: Natural Energy Development Company Limited.

Description: Notice of Self-Certification of Foreign Utility Company Status of Natural Energy Development Company Limited.

Filed Date: 4/20/21.

Accession Number: 20210420-5170.

Comments Due: 5 p.m. ET 5/11/21.

Docket Numbers: FC21-11-000.

Applicants: Nong Khae Cogeneration Company Limited.

Description: Notice of Self-Certification of Foreign Utility Company Status of Nong Khae Cogeneration Company Limited.

Filed Date: 4/20/21.

Accession Number: 20210420-5172.

Comments Due: 5 p.m. ET 5/11/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 21, 2021.
Nathaniel J. Davis, Sr.,
Deputy Secretary.

[FR Doc. 2021-09255 Filed 4-30-21; 8:45 am]

BILLING CODE 6717-01-P